DEPARTMENT OF HOMELAND SECURITY

Office of the Secretary

[Docket No. DHS-2016-0041]

Privacy Act of 1974; Department of Homeland Security/U.S. Immigration and Customs Enforcement-014 Homeland Security Investigations Forensic Laboratory System of Records

AGENCY: Department of Homeland Security, Privacy Office.

ACTION: Notice of amendment of Privacy Act system of records.

SUMMARY: In accordance with the Privacy Act of 1974, the Department of Homeland Security (DHS) proposes to update and reissue a current DHS system of records titled, “Department of Homeland Security/U.S. Immigration and Customs Enforcement-014 Homeland Security Investigations Forensic Laboratory (HSI-FL) System of Records.” This system of records allows the DHS/U.S. Immigration and Customs Enforcement (ICE) to collect and maintain records by the HSI-FL. The HSI-FL is a U.S. crime laboratory specializing in scientific authentication; forensic examination; research, analysis, and training related to travel and identity documents; latent and patent finger and palm prints; and audio and video files in support of law enforcement investigations and activities by DHS and other agencies. As a result of a biennial review of this system, DHS/ICE is updating this system of records notice to include minor changes that were made to make the wording consistent with the routine uses of other ICE System of Records Notice (SORN) and in accordance with Appendix I to the Office of Management and Budget (OMB) Circular A-130, Federal Agency Responsibilities for Maintaining Records About Individuals. DHS/ICE made minor changes to: Routine Use G that supports ICE's sharing of information with domestic and international law enforcement agencies when there is a violation, or potential criminal, civil, or regulatory violation of law, rule, regulation, or order; Routine Use H that supports parties involved in court litigation when DHS is a party or has an interest; Routine Use V that supports DHS in making a determination regarding redress for an individual; and the retention and disposal section has been updated to note that the current approved ICE records disposition authority states that all case files, other than war crime cases be destroyed five years after the date of completion of the forensic examination. War crime cases are unscheduled at this time, and thus deemed permanent records.

In addition, a new schedule is currently being reviewed and once approved will provide lengthier retention periods than the current schedule. ICE is proposing that case files related to significant cases such as war crimes, terrorism, and homicide cases should be retained at ICE for 20 years after completion of the investigation and all actions based thereon, and then transferred to the National Archives for permanent retention. Once the schedules are approved the SORN will be updated to reflect the changes. The exemptions for the existing SORN will continue to be unchanged. This updated system will be included in DHS's inventory of record systems.

DATES: Submit comments on or before August 15, 2016. This updated system will be effective August 15, 2016.

ADDRESSES: You may submit comments, identified by docket number DHS-2016-0041 by one of the following methods:

• Federal e-Rulemaking Portal: http://www.regulations.gov. Follow the instructions for submitting comments.

• Fax: 202-343-4010.

• Mail: Karen L. Neuman, Chief Privacy Officer, Privacy Office, Department of Homeland Security, Washington, DC 20528-0655.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Lyn Rahilly, Privacy Officer, (202) 732-3300, U.S. Immigration and Customs Enforcement, 500 12th Street SW., Mail Stop 5004, Washington, DC 20536, email: ICEPrivacy@dhs.gov. For privacy questions, please contact: Karen L. Neuman, (202) 343-1717, Chief Privacy Officer, Privacy Office, Department of Homeland Security, Washington, DC 20528-0655.

SUPPLEMENTARY INFORMATION:

I. Background

In accordance with the Privacy Act of 1974, 5 U.S.C. 552a, the Department of Homeland Security (DHS), U.S. Immigration and Customs Enforcement (ICE) proposes to update and reissue a current DHS system of records titled, “DHS/ICE-014 Homeland Security Investigations Forensic Laboratory System of Records.”

The Homeland Security Investigations Forensic Laboratory (HSI-FL) is an accredited crime laboratory located within ICE's Office of Homeland Security Investigations (HSI) that provides a broad range of forensic, intelligence, and investigative support services for ICE, DHS, and many other U.S. and foreign law enforcement agencies. The HSI-FL is the only U.S. crime laboratory specializing in scientific authentication; forensic examination; research, analysis, and training related to travel and identity documents; latent and patent finger and palm prints; and audio and video files in support of law enforcement investigations and activities by DHS and other agencies.

As a result of a biennial review of this system, DHS/ICE is updating this SORN to include minor changes to make the wording consistent with the routine uses of other ICE SORNs and in accordance with Appendix I to OMB Circular A-130, Federal Agency Responsibilities for Maintaining Records About Individuals. DHS/ICE made minor changes to routine use G to support ICE's sharing of information with domestic and international law enforcement agencies when there is a violation, or potential criminal, civil, or regulatory violation of rule, regulation, or order; routine use H to support parties involved in litigation before a court or adjudicative body when DHS is a party or has an interest; and routine use V to support DHS in making a determination regarding redress for an individual. These changes are not intended to alter the purpose of these routine uses but to ensure that ICE's SORNs are using consistent and clear routine use language. Finally, the retention and disposal section has been updated to note the current approved ICE records disposition authority states that all case files, other than war crime cases, be destroyed five years after the date of completion of the forensic examination. War crime cases are unscheduled records at this time, and thus deemed permanent records until a retention period has been approved by the National Archivist.

In addition, a new schedule is currently being reviewed and once approved will provide lengthier retention periods than the current schedule. ICE is proposing that case files related to significant cases such as war crimes, terrorism, and homicide cases should be retained at ICE for 20 years after completion of the investigation and all actions based thereon, and then transferred to the National Archives for permanent retention. Once the schedules are approved the SORN will be updated to reflect the changes.

DHS/ICE issued a Final Rule to exempt this system of records from certain provisions of the Privacy Act on April 2, 2014 (79 FR 18441). These regulations remain in effect. This updated system will be included in DHS's inventory of record systems.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/ICE-014 Homeland Security Investigations Forensic Laboratory System of Records.

In accordance with 5 U.S.C. 552a(r), DHS has provided a report of this system of records to the Office of Management and Budget and to Congress.

System of Records

Department of Homeland Security (DHS)/U.S. Immigration and Customs Enforcement (ICE)-014.

System name:

DHS/ICE-014 Homeland Security Investigations Forensic Laboratory (HSI-FL).

Security classification:

Law enforcement sensitive.

System location:

Records are maintained at U.S. Immigration and Customs Enforcement Headquarters in Washington, DC and in field offices, and electronic records are maintained in Laboratory Information Management System (LIMS), Imaged Documents & Exemplars Library (IDEAL), and other IT systems.

Categories of individuals covered by the system:

Categories of individuals covered by this system include:

1. Individuals whose information is contained on United States or international travel and identity documents, such as driver's licenses, passports, and other forms of identification, that are maintained in the HSI-FL Library;

2. Individuals whose information is contained on United States or international travel and identity documents, such as driver's licenses, passports, and other forms of identification, that are provided to the HSI-FL for forensic examination during a criminal or administrative law enforcement investigation;

3. Individuals who are the subjects of current or previous law enforcement investigations by other domestic or foreign agencies where the HSI-FL is providing support and assistance;

4. Individuals who are the subjects of current or previous law enforcement investigations into violations of U.S. customs and immigration laws, as well as other laws and regulations within ICE's jurisdiction, including investigations led by other domestic or foreign agencies, where the HSI-FL is providing support and assistance; and

5. Individuals whose image or voice may be captured on video or audio files when the HSI-FL is provided the file to perform technical enhancements of the file.

Categories of records in the system:

Categories of records in this system include:

1. Biographic, descriptive, historical, and other identifying data, including: Names; photographs; fingerprint identification number; date and place of birth; passport and other travel document information; nationality; aliases; Alien Registration Number (A-Number); Social Security number; other identification numbers, contact or location information (e.g., known or possible addresses, phone numbers); visa information; employment, educational, immigration, and criminal history; height, weight, eye color, hair color, and other unique physical characteristics (e.g., scars and tattoos).

2. Fingerprints or palm prints of individuals whose information is provided to the HSI-FL for forensic examination.

3. Case-related data, including: Case number, record number, and other data describing an event involving alleged violations of criminal or immigration law (such as, location, date, time, event category (event categories describe broad categories of criminal law enforcement, such as immigration worksite enforcement, contraband smuggling, and human trafficking)); types of criminal or immigration law violations alleged; types of property involved; use of violence, weapons, or assault against DHS personnel or third parties; attempted escape; and other related information. ICE case management information, including: Case category; case agent; date initiated; and date completed.

4. Birth, marriage, education, employment, travel, and other information derived from affidavits, certificates, manifests, and other documents presented to or collected by ICE during immigration and law enforcement proceedings or activities. This data typically pertains to subjects, relatives, and witnesses.

5. Data concerning personnel of other agencies that arrested, or assisted or participated in the arrest or investigation of, or are maintaining custody of an individual whose arrest record is contained in this system of records. This can include: name; title; agency name; address; telephone number; and other information.

Authority for maintenance of the system:

8 U.S.C. 1103, 18 U.S.C. 496, 18 U.S.C. 911, 18 U.S.C. 1001, 18 U.S.C. 1028, 18 U.S.C. 1425, 18 U.S.C. 1426, 18 U.S.C. 1427, 18 U.S.C. 1541, 18 U.S.C. 1543, and 18 U.S.C. 1546.

Purpose(s):

The purposes of this system are to:

1. Maintain records related to the scientific authentication, examination, research, and analysis of travel and identity documents, fingerprints, and palm prints in accordance with established laboratory policies and procedures, scientific principles, and accreditation standards.

2. Maintain a library of travel and identity documents and associated reference materials for use in forensic examinations, investigations, training, and other activities.

3. Support the forensic examinations on a full range of documents, including but not limited to, passports, visas, driver's licenses, identification cards, border crossing cards, handwritten documents, vital records, and typewritten documents. The analysis may include, but is not limited to, an examination of handwriting, hand printing, typewriting, printing processes, security features, papers, inks, and stamp impressions.

4. Maintain records facilitating the preparation of written laboratory reports and delivery of expert witness testimony in legal proceedings.

5. Support the provision of training in fraudulent document detection, creation of document intelligence alerts and reference guides, and provision of direct assistance to federal, state and local agencies, as well as foreign governments and commercial entities to combat document fraud.

6. Provide assistance within ICE and to domestic and foreign agencies to support the identification and arrest of individuals (both citizens and non-citizens) who commit violations of law.

7. To identify potential criminal activity, immigration violations, and threats to homeland security; to uphold and enforce the law; and to ensure public safety.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (DOJ) (including offices of the United States Attorneys) or other federal agency conducting litigation or proceedings before any court, adjudicative, or administrative body, when it is relevant or necessary to the litigation and one of the following is a party to the litigation or has an interest in such litigation:

1. DHS or any component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. When a record, either on its face or in conjunction with other information, indicates a violation or potential violation of law, rule, regulation, or order, which includes criminal, civil, or regulatory violations, and such disclosure is proper and consistent with the official duties of the person making the disclosure, a disclosure may be made to the appropriate federal, state, local, tribal, territorial, international, or foreign law enforcement agencies or other appropriate authorities charged with investigating or prosecuting a violation or enforcing or implementing such law, rule, regulation, or order.

H. To courts, magistrates, administrative tribunals, opposing counsel, parties, and witnesses, in the course of immigration, civil, or criminal proceedings (including discovery, presentation of evidence, and settlement negotiations) and when DHS determines that use of such records is relevant and necessary to the litigation before a court or adjudicative body when any of the following is a party to or have an interest in the litigation:

1. DHS or any component thereof;

2. Any employee or former employee of DHS in his/her official capacity;

3. Any employee or former employee of DHS in his/her individual capacity when the government has agreed to represent the employee; or

4. The United States, when DHS determines that litigation is likely to affect DHS or any of its components.

I. To federal, state, local, tribal, territorial, or foreign government agencies, as well as to other individuals and organizations during the course of an investigation by DHS or the processing of a matter under DHS's jurisdiction, or during a proceeding within the purview of the immigration and nationality laws, when DHS deems that such disclosure is necessary to carry out its functions and statutory mandates or to elicit information required by DHS to carry out its functions and statutory mandates.

J. To federal, state, local, tribal, or territorial government agencies seeking to verify or ascertain the citizenship or immigration status of any individual within the jurisdiction of the agency for any purpose authorized by law.

K. To federal, state, local, tribal, or territorial government agencies, or other entities or individuals, or through established liaison channels to selected foreign governments, in order to provide intelligence, counterintelligence, or other information for the purposes of national security, intelligence, counterintelligence, or antiterrorism activities authorized by U.S. law, Executive Order, or other applicable national security directive.

L. To federal, state, local, tribal, territorial, or foreign government agencies or organizations, or international organizations, lawfully engaged in collecting law enforcement intelligence, whether civil or criminal, to enable these entities to carry out their law enforcement responsibilities, including the collection of law enforcement intelligence.

M. To international, foreign, intergovernmental, and multinational government agencies, authorities, and organizations in accordance with law and formal or informal international arrangements.

N. To federal and foreign government intelligence or counterterrorism agencies or components when DHS becomes aware of an indication of a threat or potential threat to national or international security, or when such disclosure is to support the conduct of national intelligence and security investigations or to assist in anti-terrorism efforts.

O. To federal, state, local, tribal, territorial, or foreign government agencies or entities or multinational government agencies when DHS desires to exchange relevant data for the purpose of developing, testing, or implementing new software or technology whose purpose is related to this system of records.

P. To federal, state, local, territorial, tribal, international, or foreign criminal, civil, or regulatory law enforcement authorities when the information is necessary for collaboration, coordination, and de-confliction of investigative matters, prosecutions, and/or other law enforcement actions to avoid duplicative or disruptive efforts, and to ensure the safety of law enforcement officers who may be working on related law enforcement matters.

Q. To the Department of State in the processing of petitions or applications for benefits under the Immigration and Nationality Act, and all other immigration and nationality laws including treaties and reciprocal agreements; or when the Department of State requires information to consider and/or provide an informed response to a request for information from a foreign, international, or intergovernmental agency, authority, or organization about an alien or an enforcement operation with transnational implications.

R. To the Department of State to provide read-only access of records maintained in the Imaged Documents and Exemplars Library to assist the Department of State with its validation of travel and identity documents.

S. To federal, state, local, tribal, territorial, or foreign government agencies for purposes of completing and providing results of requested forensic examinations to the requesting agency.

T. To the Department of Justice (including offices of the United States Attorneys) or other federal agency conducting litigation or in proceedings before any court, adjudicative, or administrative body, when necessary to assist in the development of such agency's legal and/or policy position.

U. To the U.S. Senate Committee on the Judiciary or the U.S. House of Representatives Committee on the Judiciary when necessary to inform members of Congress about an alien who is being considered for private immigration relief.

V. To federal, state, local, tribal, territorial, international, or foreign government agencies or entities for the purpose of consulting with that agency or entity: (1) To assist in making a determination regarding redress for an individual in connection with the operations of a DHS component or program; (2) to verify the identity of an individual seeking redress in connection with the operations of a DHS component or program; or (3) to verify the accuracy of information submitted by an individual who has requested such redress on behalf of another individual.

W. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

ICE stores records in this system electronically or on paper in secure facilities in a locked drawer behind a locked door. The records may be stored in hard copy and electronically on magnetic disc, tape, digital media, and CD-ROM.

Retrievability:

ICE may retrieve records by name; identification numbers including case or record number if applicable; other personal identification numbers including Alien Registration Number (A-Number), fingerprint identification number, and other personal identification numbers; and case related data and/or combination of other personal identifiers including, but not limited to, date of birth and nationality.

Safeguards:

ICE safeguards records in this system in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

The current approved ICE records disposition authority states that all case files not pertaining to war crimes be destroyed five years after the date of completion of the forensic examination. War crime case files are unscheduled at this time, and thus are deemed permanent records.

A new records schedule is currently being reviewed, and once approved, will provide lengthier retention periods than the current schedule. ICE is proposing that case files related to significant cases such as war crimes, terrorism, and homicide cases should be retained at ICE for 20 years after completion of the investigation and all actions based thereon, and then transferred to the National Archives for permanent retention.

Once the schedules are approved, the SORN will be updated to reflect the changes.

System Manager and address:

U.S. Immigration and Customs Enforcement, Homeland Security Investigations Forensic Laboratory, Unit Chief, 8000 West Park Drive, McLean, VA 22102-3105.

Notification procedure:

The Secretary of Homeland Security has exempted this system from the notification, access, and amendment procedures of the Privacy Act because it is a law enforcement system. However, DHS/ICE will consider individual requests to determine whether or not information may be released. Thus, individuals seeking notification of, and access to, any record contained in this system of records, or seeking to contest its content, may submit a request in writing to ICE's Freedom of Information Act (FOIA) Officer, whose contact information can be found at http://www.dhs.gov/foia under “Contacts.” If an individual believes more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records, your request must conform with the Privacy Act regulations set forth in 6 CFR part 5. You must first verify your identity, meaning that you must provide your full name, current address, as well as your date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records.

If your request is seeking records pertaining to another living individual, you must include a statement from that individual certifying his/her agreement for you to access his/her records.

Without the above information, the component(s) may not be able to conduct an effective search, and your request may be denied due to a lack of specificity or a lack of compliance with applicable regulations.

Record access procedures:

See “Notification procedure” above.

Contesting record procedures:

See “Notification procedure” above.

Record source categories:

Records in the system are supplied by several sources. In general, ICE obtains information from federal, state, local, tribal, or foreign governments. More specifically, DHS/ICE-014 records are derived from the following sources: (a) Other federal, state, local, tribal, or foreign governments and government information systems; and (b) evidence, contraband, and other seized material.

Exemptions claimed for the system:

The Secretary of Homeland Security, pursuant to 5 U.S.C. 552a(j)(2), has exempted this system from the following provisions of the Privacy Act 5 U.S.C. 552a(c)(3), (c)(4); (d); (e)(1), (e)(2), (e)(3), (e)(4)(G), (e)(4)(H), (e)(4)(I), (e)(5), (e)(8); (f); and (g). Additionally, the Secretary of Homeland Security, pursuant to 5 U.S.C. 552a(k)(2), has exempted this system from the following provisions of the Privacy Act: 5 U.S.C. 552a(c)(3); (d); (e)(1), (e)(4)(G), (e)(4)(H), (e)(4)(I); and (f). When a record received from another system has been exempted in that source system under 5 U.S.C. 552a(j)(2), DHS will claim the same exemptions for those records that are claimed for the original primary systems of records from which they originated and claims any additional exemptions in accordance with this rule.

Dated: June 23, 2016.
Karen L. Neuman
Chief Privacy Officer, Department of Homeland Security.

[FR Doc. 2016-16587 Filed 7-13-16; 8:45 am]

BILLING CODE 9111-28-P